ENVIRONMENTAL PROTECTION AGENCY

[ER-FRL-6688-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in the Federal Register dated April 6, 2007 (72 FR 17156).

Draft EISs

EIS No. 20070089, ERP No. D-MMS-A09833-00, PROGRAMMATIC—Alternative Energy Development and Production and Alternate Use of Facilities on the Outer Continental Shelf, Implementation, Atlantic, Gulf of Mexico, Pacific and Alaska.

Summary: EPA does not object to the proposed action. Rating LO.

EIS No. 20070131, ERP No. D-IBR-G39048-NM, Navajo-Gallup Water Supply Project, To Provide a Long-Term (Year 2040) Water Supply, Treatment and Transmission of Municipal and Industrial (M&I) Water to Navajo National and Jicarilla Apache Nation, City of Gallup, New Mexico.

Summary: EPA does not object to the proposed action. Rating LO.

Final EISs

EIS No. 20070157, ERP No. F-MMS-A02244-00, Outer Continental Shelf Oil & Gas Leasing Program: 2007-2012, Exploration and Development Offshore Marine Environment and Coastal Counties of AL, AK, DE, FL, LA, MD, MS, NJ, NC, TX, and VA.

Summary: EPA does not object to the proposed action.

EIS No. 20070195, ERP No. F-AFS-L65514-AK, Traitors Cove Timber Sale Project, Timber Harvest and Road Construction, Implementation, Revillagigedo Island, Ketchikan-Misty Fiords Ranger District, Tongass National Forest, AK.

Summary: EPA continues to have environmental concerns about potential cumulative water quality impacts.

EIS No. 20070201, ERP No. F-FHW-H40188-00, US 59—Amelia Earhart Memorial Bridge over the Missouri River, Construction from Atchison, Kansas to U.S. 59/State Route 45 Intersection, US Coast Guard Section 9 Permit and U.S. Army COE Section 10 and 404 Permits, Atchison, KS and Buchanan County, MO.

Summary: No formal comment letter was sent to the preparing agency.

EIS No. 20070202, ERP No. F-AFS-L65497-ID, South Fork Salmon River Subbasin Noxious and Invasive Weed Management Program, Implementation, Krassel and McCall Ranger Districts, Payette National Forest and Cascade Ranger District, Valley and Idaho Counties, ID.

Summary: EPA's previous concerns have been resolved; therefore, EPA does not object to the proposed action.

EIS No. 20070232, ERP No. F-FHW-H50002-00, Bellevue Bridge Study, To Improve Connectivity between the Omaha Metropolitan Area and across the Missouri River from U.S. 75 to I-29, Coast Guard Permit, NPDES Permit, U.S. Army COE Section 10 and 404 Permits, Mills County, IA and Sarp County, NE.

Summary: EPA's previous issues have been resolved; therefore, EPA does not object to the action as proposed.

Dated: July 2, 2007.
Robert Hargrove,
Director, NEPA Compliance Division, Office of Federal Activities.

[FR Doc. E7-13093 Filed 7-5-07; 8:45 am]

BILLING CODE 6560-50-P